DEPARTMENT OF LABOR

Employment and Training Administration

[TA-W-82,113]

SGL Carbon, LLC Including Leased On-Site Worker of Reflex Staffing Services and Manpower, St. Marys, Pennsylvania; Notice of Affirmative Determination Regarding Application for Reconsideration

By application dated January 9, 2013, the International Union of Electronic, Electrical, Salaried, Machine and Furniture Workers/Communications Workers of America, Local 502, requested administrative reconsideration of the negative determination regarding workers' eligibility to apply for Trade Adjustment Assistance (TAA) applicable to workers and former workers of SGL Carbon, LLC, St. Marys, Pennsylvania (subject firm). The determination was issued on December 14, 2012. The Department's Notice of determination was published in the Federal Register on January 4, 2013 (78 FR 771). The workers' firm is engaged in activities related to the production of graphite parts.

The initial investigation resulted in a negative determination based on the findings that, with respect to Section 222(a)(2)(A)(i) of the Trade Act of 1974, as amended, the subject firm has not experienced a decline in the sales or production of graphite parts during the relevant period.

The request for reconsideration included information regarding possible increased imports.

The Department has carefully reviewed the request for reconsideration and the existing record, and will conduct further investigation to clarify the subject worker group and to determine if workers at the subject firm have met the eligibility requirements of the Trade Act of 1974, as amended.

Conclusion

After careful review of the application, I conclude that the claim is of sufficient weight to justify reconsideration of the U.S. Department of Labor's prior decision. The application is, therefore, granted.

Signed at Washington, DC, this 25th day of February, 2013.
Del Min Amy Chen,
Certifying Officer, Office of Trade Adjustment Assistance.

[FR Doc. 2013-05456 Filed 3-7-13; 8:45 am]

BILLING CODE 4510-FN-P